DEPARTMENT OF ENERGY

Federal Energy Regulatory Commission

[Project No. 2266-096; Project Nos. P-2310-173 and P-2784-003]

Nevada Irrigation District; Pacific Gas and Electric Company; Notice of Intent To Prepare an Environmental Impact Statement and Notice of Scoping Meetings and Site Visit and Requesting Scoping Comments

May 22, 2008.

Take notice that the following three hydroelectric applications have been filed with Commission and are available for public inspection:

a. Type of Applications: Notices of Intent to File License Application for a New License and Pre-Application Documents.

b. Project Nos: P-2266-096, P-2310-173, P-2784-003.

c. Date Filed: April 11, 2008.

d. Applicants: Nevada Irrigation District (P-2266-096); Pacific Gas and Electric Company (P-2310-173, P-2784-003).

e. Names of Projects: Yuba-Bear Project (P-2266-096), Drum-Spaulding Project (P-2310-173), Rollins Transmission Line Project (P-2784-003).

f. Location: The Yuba-Bear Project is located on the west slope of the Sierra Nevada on the Middle Yuba River, Canyon Creek, Fall Creek, Rucker Creek and Bear River, in Nevada, Placer and Sierra counties, California. A large portion of the project is located on the Tahoe National Forest. Some of the project is located on federally owned land managed by the Bureau of Land Management as part of the Sierra Resource Management Area.

The Drum-Spaulding Project is located on the west slope of the Sierra Nevada, on the South Yuba River, Bear River, North Fork of the North Fork of the American River and tributaries to the Sacramento River basin, in Nevada and Placer counties, California. A large portion of the project is located on federal-owned lands managed by the Forest Service as part of the Tahoe National Forest. Small portions of the project occupy lands managed by the Bureau of Land Management and the Bureau of Reclamation.

The Rollins Transmission Line Project is located in Nevada and Placer counties, California, near the Bear River and the town of Colfax. The project extends from the Rollins Powerhouse switchyard approximately 3,800 feet to PG&E's Drum-Grass Valley-Weimar transmission line. The project occupies a total of 5.38 acres, all of which is under private ownership.

g. Filed Pursuant to: Federal Power Act 16 U.S.C. 791(a)-825(r).

h. Applicant Contacts: Yuba-Bear Project—Ron Nelson, General Manager, Nevada Irrigation District, 1036 West Main Street, Grass Valley, CA 95945, (530) 271-6824, or e-mail nelson@nid.dst.ca.us.

Drum Spaulding Project—Steve Peirano, Relicensing Project Manager, Pacific Gas and Electric Company, 245 Market Street, Room 1103, P.O. Box 770000, San Francisco, CA 94177-0001 (415) 973-4481, or e-mail slp2@pge.com.

Rollins Transmission Line Project—Forrest Sullivan, Senior Project Manager, Pacific Gas & Electric Company, 5555 Florin-Perkins Road, Building 500, Sacramento, CA 95826. Tel: (916) 386-5580, or e-mail frs3@pge.com.

i. FERC Contact: John Mudre, (202) 502-8902, or john.mudre@ferc.gov.

j. Deadline for filing scoping comments: August 11, 2008.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. The applications are not ready for environmental analysis at this time.

l. The Yuba-Bear Project consists of four developments—Bowman, Dutch Flat, Chicago Park, and Rollins—which, in total, include: 13 main dams with a combined gross storage capacity of 207,865 acre-feet of water; four water conduits; five diversion dams; four powerhouses with a combined installed capacity of 79.32 megawatts; one 9.0-mile-long, 60-kilovolt transmission line; and appurtenant facilities and structures, including recreation facilities.

The Drum-Spaulding Project consists of 10 developments: Spaulding No. 3; Spaulding No. 1 and No. 2; Drum No. 1 and No. 2; Dutch Flat No. 1; Halsey; Wise; Newcastle; Deer Creek; Alta; and Wise No. 2. In the 10 developments there are 29 reservoirs with a combined gross storage capacity of 154,388 acre-feet of water; 6 major water conduits; 12 powerhouses with a combined authorized installed capacity of 192.5 megawatts, 7 transmission lines; and appurtenant facilities and structures, including recreation facilities.

The Rollins Transmission Line Project consists of a single circuit wood pole line extending from the Rollins Powerhouse switchyard approximately 3,800 feet to PG&E's Drum-Grass Valley-Weimar transmission line. The project is within a 40-foot-wide corridor. The project also includes an access road that is 1,867 feet in length, with project widths between 20 and 60 feet.

m. Copies of all three applications are available for review at the Commission in the Public Reference Room or may be viewed on the Commission's Web site at http://www.ferc.gov using the “eLibrary” link. Enter the docket number excluding the last three digits in the docket number field to access the documents. For assistance, contact FERC Online Support at FERCOnlineSupport@ferc.gov or toll-free at 1-866-208-3676, or for TTY, (202) 502-8659. Copies are also available for inspection and reproduction at the address in item h above.

You may also register online at http://www.ferc.gov/docs-filing/esubscription.asp to be notified via e-mail of new filings and issuances related to these or other pending projects. For assistance, contact FERC Online Support.

n. Scoping Process

Pursuant to NEPA, we intend to prepare an environmental impact statement (EIS) for the projects, which would be used by the Commission to determine whether, and under what conditions, to issue new hydropower licenses for the projects. To support and assist our environmental review, we are beginning the public scoping process to ensure that all pertinent issues are identified and analyzed. Because these three projects are located in the same watersheds and have the same license expiration dates, NID and PG&E have decided, to the extent practical, to cooperate and coordinate on their relicensing efforts. Our multi-project EIS will allow for a comprehensive and coordinated review of the environmental effects of the proposed projects and alternatives. The scoping meetings and site visits discussed below will address all three projects.

Scoping Meetings

Commission staff will hold two public scoping meetings in the vicinity of the projects. A daytime meeting will focus on resource agency concerns and an evening meeting will focus on the public's views. We invite all interested agencies, Indian tribes, NGOs, and individuals to attend one or both of the meetings to assist staff in identifying the scope of environmental issues that should be analyzed in the EIS.

The times and locations of these meetings are as follows:

Daytime Scoping Meeting

Date and Time: Tuesday, June 24, 2008, 9 a.m. (PST).

Location: Auburn Holiday Inn Hotel, 120 Grass Valley Highway, Auburn, California.

Evening Scoping Meeting

Date and Time: Tuesday, June 24, 2008, 7 p.m. (PST).

Location: Gold Miners Inn Holiday Inn Express Hotel, 121 Bank Street, Grass Valley, California.

Copies of the Scoping Document (SD1) outlining the subject areas to be addressed in the EIS are being distributed on this date to the parties on the Commission's mailing list under separate cover. Commission's mailing list. Copies of the SD1 will be available at the scoping meeting or may be viewed on the Web at http://www.ferc.gov using the “eLibrary” link (see item m above).

Site Visit

The licensees and Commission staff have scheduled a visit of some of the projects' facilities on Tuesday, June 17, Wednesday, June 18, and Thursday, June 19, 2008, starting at 8 a.m. and ending at or about 5 p.m. Participants should meet by the start time as follows: (1) On June 17 at the Discovery Trail in Bear Valley; (2) on June 18 at the Alta Service Center; and (3) on June 19 at the Halsey Forebay. Participants are responsible for their own transportation; four-wheel-drive vehicles are recommended. Anyone interested in attending the site visit should contact Mr. James Lynch at (916) 564-4214, by June 3, 2008.

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EIS.

Kimberly D. Bose,
Secretary.

[FR Doc. E8-12139 Filed 5-30-08; 8:45 am]

BILLING CODE 6717-01-P